DEPARTMENT OF ENERGY

Federal Energy Regulatory Commission

[Docket No. EC01-127-000, et al.]

Holyoke Water Power Company, et al.; Electric Rate and Corporate Regulation Filings

July 24, 2001.

Take notice that the following filings have been made with the Commission:

1. Holyoke Water Power Company Holyoke Power and Electric Company

[Docket Nos. EC01-127-000 and ER01-2620-000]

Take notice that on July 17 , 2001, Holyoke Water Power Company and Holyoke Power and Electric Company (Applicants) tendered for filing an Application for approval under Section 203 of the Federal Power Act for approval of the disposition of jurisdictional facilities that will result from the sale of certain facilities to the City of Holyoke Gas & Electric Department and for acceptance under section 205 of the Federal Power Act an amendment to a transmission service agreement. Applicants state that copies of this filing are being mailed to the City of Holyoke Gas and Electric Department and the Massachusetts Department of Telecommunications and Energy.

Comment date: August 10, 2001, in accordance with Standard Paragraph E at the end of this notice.

2. New Albany Power I, LLC Duke Energy North America, LLC

[Docket No. EC01-128-000]

Take notice that on July 18, 2001, New Albany Power I, LLC (New Albany) and Duke Energy North America, LLC (DENA) (the Applicants) filed with the Federal Energy Regulatory Commission (Commission) an application pursuant to section 203 of the Federal Power Act for authorization of the transfer of Enron North America Corp. (ENA) 100% membership interests in New Albany to DENA or a special purpose subsidiary of DENA (the Transaction). DENA will pay cash for the membership interests. New Albany owns and operates an approximately 396 MW natural gas-fired, simple-cycle electric generating facility located in Union County, Mississippi (the Facility). The Transaction may constitute the indirect disposition of jurisdictional facilities associated with the Facility (e.g., market-based rate schedules of New Albany and the sales agreements entered into thereunder, limited transmission interconnection facilities and jurisdictional books and records).

Comment date: August 10, 2001, in accordance with Standard Paragraph E at the end of this notice.

3. Colton Power L.P.

[Docket No. EG01-264-000]

Take notice that on July 20, 2001, Colton Power L.P. (Applicant) a Delaware limited partner, with its principal office located at 100 Clinton Square, Suite 403, 126 North Salina Street, Syracuse, New York 13202, filed with the Federal Energy Regulatory Commission (Commission) an application for determination of exempt wholesale generator status pursuant to part 365 of the Commission's regulations and Section 32 of the Public Utility Holding Company Act of 1935, as amended.

Applicant is a Delaware limited partnership, with PE-Colton, LLC, a Delaware limited liability company, as its sole general partner. Applicant is developing two approximately 40 MW operating stations, each comprising four approximately 10 MW gas-fired combustion turbine-generator sets, with all related electric transmission grid interconnections, near the City of Colton, California (the “Facilities”), and will make sales of electric energy and capacity at wholesale from those Facilities.

Copies of the application have been served upon the California Public Utility Commission and the Securities and Exchange Commission.

Comment date: August 10, 2001, in accordance with Standard Paragraph E at the end of this notice. The Commission will limit its consideration of comments to those that concern the adequacy or accuracy of the application.

4. California Independent System Operator Corporation

[Docket No. ER01-2632-000]

Take notice that on July 20, 2001, the California Independent System Operator Corporation (ISO) tendered for filing a participating Load Agreement (PLA) with the California Department of Water Resources. The PLA is designed to set forth the terms and conditions that govern a Load's provision of Ancillary Services or Supplemental Energy, in a manner analogous to the Participating Generator Agreement, or PGA, with regard to generating resources. The PLA is designed to increase participation of Load resources in the ISO's markets. The ISO states that this filing has been served on the California Department of Water Resources and the California Public Utilities Commission.

The ISO requests waiver of the Commission's notice requirements and an effective date for the PLA of September 10, 2000.

Comment date: August 10, 2001, in accordance with Standard Paragraph E at the end of this notice.

5. PPL Montana, LLC

[Docket No. ER01-2633-000]

Take notice that on July 20, 2001, PPL Montana, LLC (PPL Montana) filed a notice of cancellation of PPL Montana Service Agreement No. 6 under PPL Montana's FERC Electric Tariff, Original Volume No. 1. Service Agreement No. 6 is a long-term power sales agreement between PPL Montana and Energy West Resources, Inc. PPL Montana requests an effective date of this cancellation of sixty days from the date of filing.

PPL Montana has served a copy of the notice of cancellation on Energy West Resources, Inc.

Comment date: August 10, 2001, in accordance with Standard Paragraph E at the end of this notice.

6. ALLETE, Inc. dba Minnesota Power

[Docket No. ER01-2636-000]

Take notice that on July 18, 2001, ALLETE, Inc., dba Minnesota Power, filed with the Federal Energy Regulatory Commission a notice of name change and adoption and ratification of all filed rate schedules and supplements thereto under its former names of Minnesota Power, Inc. and Minnesota Power & Light Company, in accordance with 18 CFR 35.16, effective May 8, 2001.

Comment date: August 8, 2001, in accordance with Standard Paragraph E at the end of this notice.

7. Wisconsin Electric Power Company

[Docket No. ER01-2637-000]

Take notice that on July 20, 2001, Wisconsin Electric Power Company (Wisconsin Electric), tendered for filing two (2) amendments to its electric service agreement (SA) with Badger Power Marketing Authority of Wisconsin (BPMA). The SA is under Wisconsin Electric's FERC Electric Tariff Third Revised Volume No. 1 and is Service Agreement No. 25. Copies of the filing have been served on BPMA, the Michigan Public Service Commission, and the Public Service Commission of Wisconsin.

WEPCO requests waiver of the Commission's notice of filing requirements to allow amendment #4 to become effective on June 1, 2001, and amendment #5 to become effective on May 1, 2001. Billings to the customer have not been made pursuant to the new amendments as of this filing date, therefore, refunds are not at issue.

Comment date: August 10, 2001, in accordance with Standard Paragraph E at the end of this notice.

8. Potomac Electric Power Company

[Docket No. ER01-2638-000]

Take notice that on July 20, 2001, Potomac Electric Power Company (Pepco) tendered for filing pursuant to section 205 of the Federal Power Act an executed Interconnection Agreement (NEMWDA), dated as of July 13, 2001 between Pepco and the Northeast Maryland Waste Disposal Authority as a service agreement under the PJM Interconnection, LLC's open access transmission tariff.

Comment date: August 10, 2001, in accordance with Standard Paragraph E at the end of this notice.

9. Idaho Power Company IDACORP Energy, LP

[Docket No. ER01-2639-000]

Take notice that on July 20 2001, Idaho Power Company and IDACORP Energy, LP filed (1) an amendment to Idaho Power Company's (Idaho Power) Market Rate Power Sale Tariff, FERC Electric Tariff First Revised Volume No. 6, (2) an amendment to IDACORP Energy Solutions, LP's (IES) Market Rate Power Sale Tariff, FERC Electric Tariff Original Volume 1, and (3) amendments to Idaho Power Service Agreement No. 48 and IES Service Agreement No. 1 under their respective tariffs. The amendments provide for Idaho Power and IES to reassign transmission capacity, in accordance with Commission policy.

Comment date: August 10, 2001, in accordance with Standard Paragraph E at the end of this notice.

10. Michigan Electric Transmission Company

[Docket No. ER01-2640-000]

Take notice that on July 20, 2001 Michigan Electric Transmission Company (Michigan Transco) tendered for filing a Letter Agreement Distributed Power Systems, LLC (Generator) and Michigan Transco, dated June 21, 2001, (Agreement). Under the Agreement, Michigan Transco is to undertake certain pre-construction activities associated with providing an electrical connection between Michigan Transco's transmission system and a generating plant to be built by Generator. Copies of the filing were served upon Generator and the Michigan Public Service Commission.

Michigan Transco requested that the Agreements be allowed to become effective June 21, 2001.

Comment date: August 10, 2001, in accordance with Standard Paragraph E at the end of this notice.

11. High Desert Power Project, LLC

[Docket No. ER01-2641-000]

Take notice that on July 20, 2001, High Desert Power Project, LLC submitted for filing, pursuant to section 205 of the Federal Power Act, and part 35 of the Commission's regulations, a Petition for authorization to make sales of capacity, energy, and certain Ancillary Services at market-based rates, to reassign transmission capacity, and to resell Firm Transmission Rights.

Comment date: August 10, 2001, in accordance with Standard Paragraph E at the end of this notice.

12. Deseret Generation & Transmission Co-operative, Inc.

[Docket No. ER01-2642-000]

Take notice that on July 20, 2001, Deseret Generation & Transmission Co-operative, Inc. (Deseret) tendered for filing an amendment to its Open Access Transmission Tariff, FERC Electric Tariff, Original Volume No. 2. The filing also complies with the Commission's rate schedule designation requirements as set forth in Order No. 614. Deseret requests an effective date of July 1, 2001.

Copies of this filing were served upon Deseret's transmission customers that take service under the Tariff.

Comment date: August 10, 2001, in accordance with Standard Paragraph E at the end of this notice.

13. Deseret Generation & Transmission Co-operative

[Docket No. ER01-2643-000]

Take notice that Deseret Generation & Transmission Co-operative, Inc. (Deseret) on July 20, 2001, tendered for filing an executed long-term firm point-to-point service agreement with Powerex under Deseret's open access transmission tariff. Deseret's open access transmission tariff is currently on file with the Commission in Docket No. OA97-487-000. Powerex has been provided a copy of this filing.

Deseret requests a waiver of the Commission's notice requirements for an effective date of July 1, 2001.

Comment date: August 10, 2001, in accordance with Standard Paragraph E at the end of this notice.

14. Colton Power L.P.

[Docket No. ER01-2644-000]

Take notice that on July 20, 2001, Colton Power L.P. (Applicant) tendered for filing, under section 205 of the Federal Power Act, a request for authorization to sell electricity at market-based rates under its market-based tariff.

Comment date: August 10, 2001, in accordance with Standard Paragraph E at the end of this notice.

15. The Dayton Power and Light Company

[Docket No. ER01-2645-000]

Take notice that on July 20, 2001, The Dayton Power and Light Company (Dayton) submitted service agreements establishing with Ameren Energy, Inc. as customers under the terms of Dayton's Open Access Transmission Tariff. Copies of this filing were served upon Ameren Energy, Inc. and the Public Utilities Commission of Ohio.

Dayton requests an effective date of one day subsequent to this filing for the service agreements. Accordingly, Dayton requests waiver of the Commission's notice requirements.

Comment date: August 10, 2001, in accordance with Standard Paragraph E at the end of this notice.

16. The Dayton Power and Light Company

[Docket No. ER01-2646-000]

Take notice that on July 20, 2001, The Dayton Power and Light Company (Dayton) submitted service agreements establishing with Ameren Energy, Inc. as customers under the terms of Dayton's Open Access Transmission Tariff. Copies of this filing were served upon Ameren Energy, Inc. and the Public Utilities Commission of Ohio.

Dayton requests an effective date of one day subsequent to this filing for the service agreements. Dayton requests waiver of the Commission's notice requirements.

Comment date: August 10, 2001, in accordance with Standard Paragraph E at the end of this notice.

17. Sierra Pacific Power Company; Nevada Power Company

[Docket No. ER01-2647-000]

Take notice that on July 20, 2001, Nevada Power Company (Nevada Power) tendered for filing Service Agreement No. 90 to the Sierra Pacific Resources Operating Companies FERC Electric Tariff, First Revised Volume No. 1, which is Nevada Power's Open Access Transmission Tariff. This Service Agreement is an executed Transmission Service Agreement (TSA) between Nevada Power and Reliant Energy Services, (Reliant Bighorn).

Nevada Power requests that this TSA be made effective as of June 1, 2002, which is the service commencement date under the TSA.

Comment date: August 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19107 Filed 7-31-01; 8:45 am]

BILLING CODE 6717-01-P